DEPARTMENT OF THE INTERIOR

Fish and Wildlife Service

[FWS-R1-ES-2010-N250; 10120-1113-0000-C2]

Endangered and Threatened Wildlife and Plants; Draft Revised Recovery Plan for the Northern Spotted Owl (Strix occidentalis caurina); Reopening of Public Comment Period

AGENCY: Fish and Wildlife Service, Interior.

ACTION: Notice of document availability; reopening of comment period.

SUMMARY: We, the U.S. Fish and Wildlife Service, recently announced the availability of the Draft Revised Recovery Plan for the Northern Spotted Owl (Strix occidentalis caurina) for public review and comment. See SUPPLEMENTARY INFORMATION for details. We now reopen the comment period. If you have previously submitted comments, please do not resubmit them, because we have already incorporated them in the public record and will fully consider them in developing our final recovery plan.

DATES: To ensure consideration, please send your written comments by December 15, 2010.

ADDRESSES: Electronic copies of the draft revised recovery plan are available online at: http://ecos.fws.gov/docs/recovery_plan/100915.pdf and http://www.fws.gov/oregonfwo/Species/Data/NorthernSpottedOwl/Recovery/. Printed copies of the draft revised recovery plan are available by request from the Field Supervisor, U.S. Fish and Wildlife Service, Oregon Fish and Wildlife Office, 2600 SE. 98th Avenue, Ste. 100, Portland, OR 97266 (phone: 503/231-6179). Written comments regarding this recovery plan, or requests for copies of the plan, should be addressed to the above Portland address or sent by e-mail to: NSORPComments@fws.gov.

FOR FURTHER INFORMATION CONTACT: Brendan White or (for draft copies of population response model output) Diana Acosta, Fish and Wildlife Biologists, at the above address and phone number.

SUPPLEMENTARY INFORMATION: On September 15, 2010, we published a Federal Register notice (75 FR 56131) announcing the availability of the Draft Revised Recovery Plan for the Northern Spotted Owl (Strix occidentalis caurina) for public review and comment under the Endangered Species Act (16 U.S.C 1531 et seq.). We originally opened this comment period for 60 days, from September 15, 2010, to November 15, 2010. We are re-opening the public comment period until December 15, 2010, in response to several requests for additional time to review and comment on the draft revised recovery plan.

For background information on the draft revised recovery plan, see our September 15, 2010, notice. As stated in that notice, we particularly seek comments concerning portions of the draft revised recovery plan that have been updated from the 2008 recovery plan. Appendix C of the draft revised recovery plan described stages 1 and 2 of our ongoing three-stage spotted owl modeling effort. Since its release we have continued this effort, initiating population response modeling using the individual-based population program HexSim. Though still at preliminary draft stage, population response simulations from this portion of the modeling process are available for public review by request from our office. These simulations do not estimate what will occur in the future, but provide comparative information on potential population responses to different conservation scenarios as described in the draft revised recovery plan.

Public Availability of Comments

Before including your address, phone number, e-mail address, or other personal identifying information in your comment, you should be aware that your entire comment—including personal identifying information—may be made publicly available at any time. While you may ask us in your comment to withhold personal identifying information from public review, we cannot guarantee that we will be able to do so.

Authority

The authority for this action is section 4(f) of the Endangered Species Act, 16 U.S.C. 1533(f).

Dated: November 15, 2010.
Richard R. Hannan,
Acting Regional Director, Region 1, U.S. Fish and Wildlife Service.

[FR Doc. 2010-30069 Filed 11-29-10; 8:45 am]

BILLING CODE 4310-55-P